DEPARTMENT OF LABOR

Employment and Training Administration

[TA-W-39,611]

HR Textron Cadillac Gage, David Brown Hydraulics, Greenville, OH; Notice of Negative Determination Regarding Application for Reconsideration

By application of August 24, 2001, the Excello Independent Union requested administrative reconsideration of the Department's negative determination regarding eligibility for workers and former workers of the subject firm to apply for Trade Adjustment Assistance (TAA). The denial notice applicable to workers of HR Textron Cadillac Gage, David Brow Hydraulics, Greenville, Ohio was issued on July 18, 2001, and was published in the Federal Register on August 6, 2001 (66 FR 41052).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The investigation findings revealed that criterion (3) of the group eligibility requirements of section 222 of the Trade Act of 1974 was not met. The decision was based on imports not contributing importantly to the decline in employment at the subject plant. The decline in employment was related to a domestic shift in plant production. The workers produced hydraulic pumps and turret systems for military tanks.

The request for reconsideration alleges that hydraulic pumps are imported from an affiliated plant located in Poole, England.

A review of the investigation and clarification from the company indicates that during the relevant period of the investigation, the subject plant workers assembled hydraulic pumps from imported hydraulic pump components produced at an affiliated plant located in Poole, England. The Poole, England plant shipped the components to the subject plant, but did not import the completed hydraulic pumps to the United States (except under rare occasions) during the relevant period.

New information provided by the company shows that the Poole facility began shipping completed hydraulic pumps back to the United States during December 2001, which is beyond the scope of the relevant period of the initial investigation. Therefore, petitioners are encouraged to reapply for TAA, so an investigation can be conducted to establish these new facts as they relate to the workers of the subject firm during the relevant time frame.

Conclusion

After review of the application and investigative findings, I conclude that there has been no error or misinterpretation of the law or of the facts which would justify reconsideration of the Department of Labor's prior decision. Accordingly, the application is denied.

Signed at Washington, DC, this 4th day of February 2002.
Edward A. Tomchick,
Director, Division of Trade Adjustment Assistance.

[FR Doc. 02-5571 Filed 3-7-02; 8:45 am]

BILLING CODE 4510-30-M